CENTRAL INTELLIGENCE AGENCY

32 CFR Part 1909

Access by Historical Researchers and Certain Former Government Personnel; Correction

AGENCY: Central Intelligence Agency.

ACTION: Final rule; correction.

SUMMARY: On September 23, 2011, the Central Intelligence Agency published a final rule resulting from a review of its public regulations on access by historical researchers and certain former government personnel. As a result of the review, the Agency has revised its access regulations to more clearly reflect the current CIA organizational structure and policies and practices, and to eliminate ambiguous, redundant and obsolete regulatory provisions. Due to a technical error in the review process, an amendment was worded inaccurately. This document corrects that error.

DATES: Effective October 18, 2011 and applicable beginning September 23, 2011.

FOR FURTHER INFORMATION CONTACT: Joseph W. Lambert, (703) 613-1379.

SUPPLEMENTARY INFORMATION: In FR Doc. No. 2011-21576 appearing on page 59034 in the Federal Register of September 23, 2011, the following correction is made:

§ 1909.14 [Corrected]

1. On page 59035, in the third column, amendatory instruction 8 and § 1909.14 heading are revised to read as follows:

* * * * *

8. Revise § 1909.14 to read as follows:

§ 1909.14. Determinations on requests for access by historical researchers.

* * * * *

Dated: October 11, 2011.
Joseph W. Lambert,
Director, Information Management Services.

[FR Doc. 2011-26901 Filed 10-17-11; 8:45 am]

BILLING CODE 6310-02-P